ENVIRONMENTAL PROTECTION AGENCY

40 CFR Part 52

[NH057-7174B; A-1-FRL-7518-7]

Approval and Promulgation of Air Quality Implementation Plans; New Hampshire; Control of Mobile Sources of Air Pollution

AGENCY: Environmental Protection Agency (EPA).

ACTION: Proposed rule.

SUMMARY: EPA is proposing to approve a State Implementation Plan (SIP) revision submitted by the State of New Hampshire on August 31, 2000 which contains the New Hampshire regulation Chapter Env-A 1100, Part Env-A 1101 entitled “Diesel and Gasoline Powered Motor Vehicles.” This regulation adopted by New Hampshire includes maintenance and operational requirements for diesel and gasoline powered engines. This regulation sets maximum opacity limits from vehicles, prohibits removing pollution control equipment from vehicles, and also sets time limits for allowing engines to idle. EPA is proposing to approve these New Hampshire requirements into the New Hampshire SIP because EPA has found that the requirements will strengthen the SIP. The intended effect of this action is to propose approval of the New Hampshire regulation entitled “Diesel and Gasoline Powered Motor Vehicles.” This action is being taken under section 110 of the Clean Air Act.

DATES: Written comments must be received on or before July 28, 2003.

ADDRESSES: Comments may be mailed to David Conroy, Unit Manager, Air Quality Planning, Office of Ecosystem Protection (mail code CAQ), U.S. Environmental Protection Agency, EPA-New England, One Congress Street, Suite 1100, Boston, MA 02114-2023. Copies of the New Hampshire submittal and EPA's technical support document are available for public inspection during normal business hours, by appointment at the Office of Ecosystem Protection, U.S. Environmental Protection Agency, EPA-New England, One Congress Street, 11th floor, Boston, MA and the Air Resources Division, Department of Environmental Services (DES), 6 Hazen Drive, P.O. Box 95, Concord, NH 03302.

FOR FURTHER INFORMATION CONTACT: Robert C. Judge, (617) 918-1045.

SUPPLEMENTARY INFORMATION: The information in this section is organized as follows:

I. What is the Background for this Action?

II. What are the Requirements of Chapter 1100, Part Env-A 1101?

III. Proposed Action

IV. What Are the Administrative Requirements?

I. What Is the Background for This Action?

Chapter Env-A 1100 was adopted to minimize the environmental impact from mobile sources operating in New Hampshire. It was initially adopted in 1973 and amended several times prior to this version of the rule. Prior to the September 25, 1996 version of the rule which we are acting on, this rule was last amended on December 27, 1990. The most substantive changes made between that earlier version and this version of the rule are related to the specific opacity standards which diesel engines must meet, and the specific prohibitions and conditions for allowing both diesel and gasoline engines to idle. Both versions of the rule prohibited pollution control equipment from being removed. No version of Chapter Env-A 1100 has been submitted previously for approval in the state's air quality plan. However provisions of this rule have been incorporated into the state's inspection programs administered by the Department of Safety, and those have been approved into the SIP. For example, a roadside testing program has been established to ensure that diesel opacity standards are met. Also, as part of the existing safety inspection program, vehicles will not pass the test if pollution control equipment has been removed from a vehicle.

The adoption of this rule will aid the state in meeting and maintaining compliance with air quality standards, including the standard for ground level ozone, and strengthen the SIP. The state has adopted this program to help reduce the impact of motor vehicle pollution by setting opacity standards for vehicle emissions, requiring that pollution control equipment is not removed and prohibiting unnecessary idling of vehicles. New Hampshire air pollution control regulations apply statewide. New Hampshire submitted this rule to EPA on August 31, 2000 for inclusion in the SIP.

II. What Are the Requirements of Chapter 1100, Part Env-A 1101?

The New Hampshire rule, Part Env-A 1101 includes sections Env-A 1101.01 through 1101.10. New Hampshire has also submitted Env-A 101.63 and Env-A 101.109, which are the definitions of “Emergency motor vehicle” and “Motor vehicle,” respectively. Specifically, sections being proposed for approval establish opacity standards for diesel engines built on or before 1990 to be no higher than 55 percent opacity, those diesel engines built after 1990 to have no higher than 40 percent opacity, and for gasoline engines to have no visible emissions other than water vapor, except at start up. The rule also prohibits the owner or operator of a diesel or gasoline powered vehicle from altering or removing any emission control equipment or system, and requires that equipment to be maintained and operational. Finally, with limited exceptions as provided for in the rule, such as for emergency vehicles or when the vehicle is stuck in traffic, no diesel or gasoline powered engine may be allowed to idle for more than 5 consecutive minutes if the temperature is above 32 degrees Fahrenheit, nor for more than 15 consecutive minutes if the temperature is between 32 degrees and minus 10 degrees Fahrenheit. This rule will result in emissions reductions of volatile organic compounds, nitrogen oxides, carbon monoxide, and fine particulate.

III. Proposed Action

EPA is proposing to approve a SIP revision at the request of the New Hampshire DES. This version of the rule was adopted on September 25, 1996 and submitted to EPA for approval on August 31, 2000. We are proposing to approve the September 25, 1996 version of Chapter Env-A 1100, Part Env-A 1101 entitled “Diesel and Gasoline Powered Motor Vehicles.” EPA is proposing to approve these New Hampshire requirements into the SIP because EPA has found that the requirements will help prevent emissions of volatile organic compounds, nitrogen oxides, carbon monoxide and fine particles and will strengthen the New Hampshire SIP.

EPA is soliciting public comments on the issues discussed in this notice or on other relevant matters. These comments will be considered before taking final action. Interested parties may participate in the Federal rulemaking procedure by submitting written comments to the EPA New England Regional Office listed in the ADDRESSES section of this document.

IV. What Are the Administrative Requirements?

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the states, on the relationship between the national government and the states, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the state to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.)

List of Subjects in 40 CFR Part 52

Environmental protection, Air pollution control, Carbon monoxide, Intergovernmental relations, Nitrogen dioxide, Ozone, Particulate matter, Reporting and recordkeeping requirements, Volatile organic compounds.

Authority: 42 U.S.C. 7401 et seq.

Dated: June 13, 2003.
Robert W. Varney,
Regional Administrator, EPA New England.

[FR Doc. 03-16238 Filed 6-25-03; 8:45 am]

BILLING CODE 6560-50-P